DEPARTMENT OF JUSTICE

Notice of Lodging of Consent Decree Under the Clean Air Act

Pursuant to 28 CFR 50.7, notice is hereby given that on September 30, 2010, a proposed Consent Decree in United States of America v. James Valley Ethanol, LLC, Northern Lights Ethanol, LLC, and Poet Plant Management, Civil Action No. 4:10-CV-04143-KES, was lodged with the United States District Court for the District of South Dakota.

The Consent Decree would resolve claims asserted by the United States against James Valley Ethanol, LLC (“James Valley”), Northern Lights Ethanol, LLC (“Northern Lights”), and POET Plant Management (“POET”) pursuant to Sections 111 and 502(a) of the Clean Air Act (the “Act”), 42 U.S.C. 7411 and 7661a, seeking injunctive relief and civil penalties for Defendants' alleged violations of the Act.

Defendant James Valley owns an ethanol production facility in Brown County, South Dakota, near Groton (the “Groton Facility”) and Defendant Northern Lights owns an ethanol production facility in Grant County, South Dakota, near Big Stone City (the “Big Stone Facility”). Defendant POET operates both the Groton and Big Stone Facilities. The complaint filed by the United States alleges that Defendants James Valley and POET violated the Title V operating permit for the Groton Facility and regulations promulgated pursuant to the New Source Performance Standards program by failing to maintain the internal floating roof on the liquid inside several storage vessels at the Groton Facility. The complaint also alleges that Defendant Northern lights and POET violated the Title V operating permit for the Big Stone Facility by exceeding certain VOC emissions limits, conducting invalid testing to demonstrate compliance with its VOC emissions limits, and failing to install required monitoring devices. Finally, the complaint alleges that these Defendants violated both the Big Stone Facility's Title V operating permit and regulations promulgated pursuant to the New Source Performance Standards program by failing to maintain the internal floating roof on the liquid inside several storage vessels at the Big Stone Facility.

The proposed Consent Decree would require Defendants to conduct all VOC Performance Tests for the Facilities in accordance with 40 CFR part 51, Appendix M; Method 207 and 40 CFR part 60, Appendix A; Method 18 and to report the results of each performance test to EPA within ninety (90) days. In addition, the proposed Consent Decree would require Defendants to apply to include the testing requirements in either a federally enforceable permit or request a site-specific amendment to the South Dakota SIP to include the requirements enumerated in the Consent Decree within one hundred eighty (180) days. Finally, the proposed Consent Decree would require Defendants to pay a $150,000 civil penalty.

The Department of Justice will receive comments relating to the Consent Decree for a period of thirty (30) days from the date of this publication. Comments should be addressed to the Assistant Attorney General, Environment and Natural Resources Division, and either emailed to pubcomment-ees.enrd@usdoj.gov or mailed to P.O. Box 7611, U.S. Department of Justice, Washington, DC 20044-7611, and should refer to United States of America v. James Valley Ethanol, LLC, Northern Lights Ethanol, LLC, and Poet Plant Management, D.J. Ref. 90-5-2-1-08640.

The Consent Decree may be examined at U.S. EPA Region 8, 1595 Wynkoop Street, Denver, CO 80202. During the public comment period, the Consent Decree may also be examined on the following Department of Justice Web site, http://www.usdoj.gov/enrd/Consent Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-25366 Filed 10-7-10; 8:45 am]

BILLING CODE 4410-15-P